DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995.

DATES: Interested persons are invited to submit comments on or before March 22, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: February 16, 2010.
James Hyler,
Information Collection Clearance Division, Regulatory Information Management Services, Office of Management.

Institute of Education Sciences

Type of Review: Revision.

Title: Early Childhood Longitudinal Study, Kindergarten Class of 2010-11 (ECLS-K:2011) Full-Scale Collection.

Frequency: Semi-Annually.

Affected Public: Individuals or household.

Reporting and Recordkeeping Hour Burden:

Responses: 104,749.

Burden Hours: 52,273.

Abstract: The Early Childhood Longitudinal Study, Kindergarten Class of 2010-11 (ECLS-K:2011) is a survey that focuses on children's early school experiences beginning with kindergarten and continuing through the fifth grade. It includes interviews with parents, teachers, school administrators, and non-parental care providers, as well as direct child assessments. This submission updates the field test submission of fiscal year 2009 (OMB# 1850-0750 v.5), summarizes the field test results, and includes the final instruments to be used for the Fall 2010 and Spring 2011 kindergarten national data collection, with collection activities scheduled to begin in Summer 2010. This package also outlines and seeks a 60-day federal register notice waiver for the upcoming OMB clearance submission for (1) a possible addition of vision and hearing screenings to the kindergarten data collection and (2) the Fall 2011 first grade recruitment and data collection, Spring 2012 first grade recruitment materials and recruitment burden, and for tracking students for the first and second grade data collections—all of which are expected to have only minor changes to the materials, instruments, and processes already approved in the field test package (OMB# 1850-0750 v.5).

Requests for copies of the information collection submission for OMB review may be accessed from http://edicsweb.ed.gov, by selecting the “Browse Pending Collections” link and by clicking on link number 4226. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-3258 Filed 2-18-10; 8:45 am]

BILLING CODE 4000-01-P